Presidential Determination No. 2010-08 of May 10, 2010

Agreement Between the Government of the United States of America And the Government of the Russian Federation for Cooperation In the Field of Peaceful Uses of Nuclear Energy

Memorandum for the Secretary of State [and] Secretary of Energy

I have considered the proposed Agreement Between the Government of the United States of America and the Government of the Russian Federation for Cooperation in the Field of Peaceful Uses of Nuclear Energy, signed in Moscow on May 6, 2008, along with the views, recommendations, and statements of the interested departments and agencies.

I approve the proposed Agreement and have determined that the performance of the Agreement will promote, and will not constitute an unreasonable risk to, the common defense and security.

The Secretary of State is authorized and directed to publish this determination in the Federal Register.

THE WHITE HOUSE,

Washington, May 10, 2010

[FR Doc. 2010-11730

Filed 5-13-10; 8:45 am]

Billing code 4710-01-P